DEPARTMENT OF COMMERCE

National Institute of Standards and Technology

[Docket No.: 040205042-4042-01]

RIN 0693-ZA54

Small Grants Programs; Availability of Funds

AGENCY: National Institute of Standards and Technology, Commerce.

ACTION: Notice.

SUMMARY: The National Institute of Standards and Technology (NIST) announces that the following programs are soliciting applications for financial assistance for FY 2004: (1) The Electronics and Electrical Engineering Laboratory Grants Program; (2) the Manufacturing Engineering Laboratory Grants Program; (3) the Chemical Science and Technology Laboratory Grants Program; (4) the Physics Laboratory Grants Program; (5) the Materials Science and Engineering Laboratory Grants Program; (6) the Building Research Grants and Cooperative Agreements Program; and (7) the Fire Research Grants Program. The amount of funding available for this year's solicitation is significantly reduced due to budget reductions in the NIST laboratory programs.

The Electronics and Electrical Engineering Laboratory (EEEL) Grants Program provides grants and cooperative agreements for the development of fundamental electrical metrology and of metrology supporting industry and government agencies in the broad areas of semiconductors, electronic instrumentation, radio-frequency technology, optoelectronics, magnetics, video, electronic commerce as applied to electronic products and devices, the transmission and distribution of electrical power, national electrical standards (fundamental, generally quantum-based physical standards), and law enforcement standards.

The Manufacturing Engineering Laboratory (MEL) Grants Program will provide grants and cooperative agreements in the following fields of research: Dimensional Metrology for Manufacturing, Mechanical Metrology for Manufacturing, Intelligent Systems, and Information Systems Integration for Applications in Manufacturing. A list of specific research areas that will be considered for funding may be found later in this document.

The Chemical Science and Technology Laboratory (CSTL) Grants Program will provide grants and cooperative agreements in the following fields of measurement science research, focused on reference methods, reference materials and reference data: Biotechnology, Process Measurements, Surface and Microanalysis Science, Physical and Chemical Properties, and Analytical Chemistry.

The Physics Laboratory (PL) Grants Program will provide grants and cooperative agreements in the following fields of research: Electron and Optical Physics, Atomic Physics, Optical Technology, Ionizing Radiation, and Time and Frequency.

The Materials Science and Engineering Laboratory (MSEL) Grants Program will provide grants and cooperative agreements in the following fields of research: Ceramics; Metallurgy; Polymer Sciences; Materials Reliability; and Neutron Scattering Research and Spectroscopy.

The Building Research Grants and Cooperative Agreements Program will provide grants and cooperative agreements in the following fields of research: Structures, Construction Metrology and Automation, Inorganic Materials, Polymeric Materials, Thermal Machinery, Mechanical Systems and Controls, Heat Transfer and Alternative Energy Systems, Computer Integrated Construction, Indoor Air Quality and Ventilation.

The Fire Research Grants Program will provide funding for innovative ideas in the fire research area generated by the proposal writer, who chooses the topic and approach, consistent with the program description and objectives of this notice.

SUPPLEMENTARY INFORMATION:

Catalog of Federal Domestic Assistance Name and Number: Measurement and Engineering Research and Standards—11.609

Electronics and Electrical Engineering Laboratory (EEEL) Grants Program

I. Funding Opportunity Description

The Electronics and Electrical Engineering Laboratory Grants Program solicits proposals in support of the broad program objectives identified below.

The Electronics and Electrical Engineering Laboratory Grants Program supports the formal mission of the Electronics and Electrical Engineering Laboratory, which is to strengthen the U.S. economy and improve the quality of life by providing measurement science and technology, and by advancing standards, primarily for the electronics and electrical industries.

More specifically, the Electronics and Electrical Engineering Laboratory Grants Program solicits proposals to support specific programs in the areas of metrology for semiconductors (including mainstream silicon, power devices, and compound semiconductors), superconductors (including cryoelectronics and bulk superconductors), electronic instrumentation, radio-frequency technology (including microwave and millimeter-wave, antennas, and electromagnetic compatibility/interference), optoelectronics, magnetics (including bulk magnetic materials and magnetic data storage), video (including flat-panel displays), electronic commerce as applied to electronic products and devices, the transmission and distribution of electrical power, national electrical standards (fundamental, generally quantum-based physical standards), and law enforcement (clothing, communication systems, emergency equipment, investigative aids, protective equipment, security systems, vehicles, speed-measuring equipment, weapons, and analytical techniques and standard reference materials used by the public safety community).

For details on these various activities, please see the Electronics and Electrical Engineering Laboratory Web site at http://www.eeel.nist.gov. Note that documents describing the current programs for the four participating technical divisions and two offices are available through the home page.

As authorized by 15 U.S.C. 272(b) and (c), the NIST Electronics and Electrical Engineering Laboratory conducts a basic and applied research program directly and through grants and cooperative agreements to eligible recipients.

II. Award Information

Over the past three years, the EEEL Grants Program funded a total of approximately $700,000 in grants and cooperative agreements. In fiscal year 2003, the EEEL Grants Program made no new awards. The amount available each year fluctuates considerably based on programmatic needs. Individual awards are expected to range between $5,000 and $150,000.

For the Electronics and Electrical Engineering Laboratory Grants Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Electronics and Electrical Engineering Laboratory Grants Program, and the availability of funds. The multi-year awards must have scopes of work that can be easily separated into annual increments of meaningful work that represent solid accomplishments if prospective funding is not made available to the applicant, (i.e., the scopes of work for each funding period must produce identifiable and meaningful results in and of themselves).

III. Eligibility Information

1. Eligible Applicants—The Electronics and Electrical Engineering Laboratory Grants Program is open to institutions of higher education; hospitals; non-profit organizations; commercial organizations; state, local, and Indian tribal governments; foreign governments; organizations under the jurisdiction of foreign governments; and international organizations.

2. Cost Sharing or Matching—The Electronics and Electrical Engineering Laboratory Grants Program does not require any matching funds.

IV. Application and Submission Information

1. Address to Request Application—An application kit, containing all required application forms and certifications is available on the web at http://www.eee;/most/gpv/eeel_grants/ or by contacting: Sheilda Bryner, (301) 975-2220, sheilda.bryner@nist.gov.

2. Content and Form of Application Submission—For the Electronics and Electrical Engineering Laboratory Grants Program, submit one signed original and two copies of the proposal package to: Electronics and Electrical Engineering Laboratory, Attn.: Sheilda Bryner, National Institute of Standards and Technology, 100 Bureau Drive, Stop 8100, Gaithersburg, MD 20899-8100, Tel.: (301) 975-2220, Fax: (301) 975-4091.

3. Submission Dates and Times—The Electronics and Electrical Engineering Laboratory Grants Program proposals must be received no later than 5 p.m. Eastern Standard Time on September 30, 2004. Proposals received after June 30, 2004 will continue to be processed and considered for funding but may be funded in the next fiscal year, subject to the availability of funds.

V. Application Review Information

1. Criteria—For the Electronics and Electrical Engineering Laboratory Grants Program, the evaluation criteria and weights to be used by the technical reviewers in evaluating the proposals are as follows:

Proposal addresses specific program objectives as described in this notice (25%)

Proposal provides evidence of applicant's expertise in relevant technical area (20%)

Proposal offers innovative approach (20%)

Proposal provides realistic schedule with defined milestones (20%)

Proposal provides adequate rationale for budget (15%)

2. Review and Selection Process—For the Electronics and Electrical Engineering Laboratory Grants Program, proposals will be distributed to the appropriate Division Chief or Office Director or designee based on technical area by one or more technical professionals familiar with the programs of the Electronics and Electrical Engineering Laboratory. The proposals will be reviewed in a two-step process. First, at least three independent, objective individuals knowledgeable about the particular scientific area described in the Program Description and Objectives section above that the proposal addresses will conduct a technical review of each proposal, based on the evaluation criteria described above. If non-Federal reviewers are used, the reviewers may discuss the proposals with each other, but scores will be determined on an individual basis, not as a consensus.

Reviews will be conducted on a quarterly basis, and all proposals received during the quarter will be ranked based on the reviewers' scores. Second, the Division Chief or Office Director will make application selections. In making application selections, the Division Chief or Office Director will take into consideration the results of the reviewers' evaluations, the compatibility of the applicant's proposal with the program objectives of the particular division or office that the proposal addresses, the availability of funding, and relevance to the objectives of the Electronics and Electrical Engineering Laboratory Grants Program, as described above. The final approval of selected applications and award of financial assistance will be made by the NIST Grants Officer based on compliance with application requirements as published in this notice, compliance with applicable legal and regulatory requirements, compliance with Federal policies that best further the objectives of the Department of Commerce, and whether the recommended applicants appear to be responsible. Applicants may be asked to modify objectives, work plans, or budgets and provide supplemental information required by the agency prior to award. The decision of the Grants Officer is final. Applicants should allow up to 90 days processing time.

Unsuccessful applicants will be notified in writing. The Program will retain one copy of each unsuccessful application for three years for record keeping purposes. The remaining copies will be destroyed.

VI. Award Administration Information

Award administration information for this program may be found in the Award Administration Information section at the end of this notice.

VII. Agency Contact(s)

Technical contacts by area are:

Semiconductors; Electronic commerce

Semiconductor Electronics Division—Division Chief: Dr. David G. Seiler; (301) 975-2054; david.seiler@nist.gov

Office of Microelectronics Programs—Director: Dr. Stephen Knight; (301) 975-4400; stephen.knight@nist.gov

Radio-frequency technology; Superconductors (bulk); Magnetics

Electromagnetics Division—Division Chief: Dr. Dennis S. Friday; (303) 497-3132; friday@boulder.nist.gov

Electronic instrumentation; National electrical standards; Supercondutors (cryoelectronics)

Quantum Electrical Metrology Division—Division Chief: Dr. James K. Olthoff; (301) 975-2400; james.olthoff@nist.gov

Optoelectronics; Video

Optoelectronics Division—Division Chief: Dr. Kent Rochford; (303) 497-5485; rochford@boulder.nist.gov

Law enforcement

Office of Law Enforcement Standards—Director: Dr. Kathleen Higgins; (301) 975-2757; kathleen.higgins@nist.gov

All grants related administration questions concerning this program should be addressed to: Joyce Brigham, NIST Grants and Agreements Management Division, (301) 975-6328; joyce.brigham@nist.gov.

Where Web sites are referenced within this notice, those without internet access may contact the appropriate Program official to obtain information.

Manufacturing Engineering Laboratory (MEL) Grants Program

I. Funding Opportunity Description

All proposals submitted must be in accordance with the program objectives listed below. The appropriate Program Manager for each field of research may be contacted for clarification of the program objectives.

A. Precision Engineering Division, 821—The primary objective is to support laboratory programs in the areas of Engineering Metrology, Large-Scale Metrology, Nanometer-Scale Metrology, and Surface Metrology. The contact person for this division is: Dr. Dennis Swyt, and he may be reached at (301) 975-3463; dennis.swyt@nist.gov.

B. Manufacturing Metrology Division, 822—The primary objective is to support laboratory programs in Mechanical Metrology; Advanced Optics Metrology; Predictive Process Engineering; and Smart Machine Tools. The contact person for this division is: Mr. Kevin Jurrens, and he may be reached at (301) 975-6600; kevin.jurrens@nist.gov.

C. Intelligent Systems Division, 823—The primary objective is to support laboratory programs in Intelligent Open Architecture Control of Manufacturing Systems, Intelligent Controls of Mobility Systems, and Intelligent Systems. The contact person for this division is: Mr. Albert Wavering, and he may be reached at (301) 975-3418; albert.wavering@nist.gov.

D. Manufacturing Systems Integration Division, 826—The primary objective is to pursue semantics- and ontology-based systems integration technology and standards through support of laboratory programs in Manufacturing Enterprise Integration; Manufacturing Simulation and Visualization; Integrated Simulations for Homeland Defense and Emergency Response; Product Engineering; Healthcare Informatics; and Meso-Micro-Nano-Manufacturing. The contact person for this division is: Dr. Steven R. Ray, and he may be reached at (301) 975-3508; steven.ray@nist.gov.

As authorized under 15 U.S.C. 272(b) and (c), the MEL conducts a basic and applied research program directly and through grants and cooperative agreements to eligible recipients.

II. Award Information

In fiscal year 2003, the MEL Grants Program funded 12 new awards, totaling $774,677. In fiscal year 2004, the MEL Grants Program anticipates funding of approximately $500,000, including new awards and continuing projects. Individual awards are expected to range from approximately $25,000 to $300,000.

For the MEL Grants Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the MEL program, and the availability of funds. The multi-year awards must have scopes of work that can be easily separated into annual increments of meaningful work that represent solid accomplishments if prospective funding is not made available to the applicant, (i.e., the scopes of work for each funding period must produce identifiable and meaningful results in and of themselves).

III. Eligibility Information

1. Eligible Applicants—The MEL Grants Program is be open to institutions of higher education; hospitals; non-profit organizations; commercial organizations; state, local, and Indian tribal governments; foreign governments; organizations under the jurisdiction of foreign governments; and international organizations.

2. Cost Sharing or Matching—The MEL Grants Program does not require any matching funds.

IV. Application and Submission Information

1. Address to Request Application Package—An application kit, containing all required application forms and certifications is available by electronic mail to: Mrs. Barbara Horner, barbara.horner@nist.gov. Alternatively, Mrs. Horner can be contacted at (301) 975-4345.

2. Content and Form of Application Submission—For the MEL Grants Program, submit one signed original and two copies of the proposal, clearly marked to identify the field of research, to: Manufacturing Engineering Laboratory, Attn: Mrs. Barbara Horner, National Institute of Standards and Technology, 100 Bureau Drive, Stop 8200, Building 220, Room B322, Gaithersburg, Maryland 20899-8200, Tel: (301) 975-4345, E-mail: barbara.horner@nist.gov.

3. Submission Dates and Times—The MEL Grants Program proposals must be received no later than 5 p.m. Eastern Standard Time on September 30, 2004. Proposals received after June 30, 2004 will continue to be processed and considered for funding but may be funded in the next fiscal year, subject to the availability of funds. Each applicant must submit one signed original and two copies of each proposal along with a Grant Application (Standard Form 424 REV. 7/97 and other required forms).

V. Application Review Information

1. Criteria—For the MEL Grants Program, the evaluation criteria the technical reviewers will use in evaluating the proposals are as follows:

a. Rationality. Reviewers will consider the coherence of the applicant's approach and the extent to which the proposal effectively addresses scientific and technical issues.

b. Technical Merit of Contribution. Reviewers will consider the potential technical effectiveness of the proposal and the value it would contribute to the field of manufacturing engineering and metrology research.

c. Qualifications of Technical Personnel. Reviewers will consider the professional accomplishments, skills, and training of the proposed personnel to perform the work in the project.

d. Resources Availability. Reviewers will consider the extent to which the proposer has access to the necessary facilities and overall support to accomplish project objectives.

Each of these factors will be given equal weight in the evaluation process.

2. Review and Selection Process—For the MEL Grants Program responsive proposals will be assigned, as received on a rolling basis, to the most appropriate area for review. At least three independent, objective individuals knowledgeable about the particular scientific area described in the section above that the proposal addresses will conduct a technical review of proposals based on the evaluation criteria. If non-Federal reviewers are used, the reviewers may discuss the proposals with each other, but scores will be determined on an individual basis, not as a consensus. The Division Chief or Laboratory Director will make application selections. In making application selections, the Division Chief or Laboratory Director will take into consideration the results of the reviewers' evaluations, the compatibility of the applicant's proposal with the program objectives of the particular division or center that the proposal addresses, the availability of funds, and relevance to the objectives of the MEL Grants Program. These objectives are described above in the “Program Objectives” section. The final approval of selected applications and award of financial assistance will be made by the NIST Grants Officer based on compliance with application requirements as published in this notice, compliance with applicable legal and regulatory requirements, compliance with Federal policies that best further the objectives of the Department of Commerce, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The original application will be returned to the applicant.

VI. Award Administration Information

Award administration information for this program may be found in the Award Administration Information section at the end of this notice.

VII. Agency Contact(s)

Technical contacts by area are:

Precision Engineering Division, 821—Dr. Dennis Swyt; (301) 975-3463; dennis.swyt@nist.gov.

Manufacturing Metrology Division, 822—Mr. Kevin Jurrens; (301) 975-6600; kevin.jurrens@nist.gov.

Intelligent Systems Division, 823—Mr. Albert Wavering; (301) 975-3418; albert.wavering@nist.gov.

Manufacturing Systems Integration Division, 826—Dr. Steven R. Ray; (301) 975-3508; steven.ray@nist.gov.

All grants related administration questions concerning this program should be addressed to: Joyce Brigham, NIST Grants and Agreements Management Division, (301) 975-6328; joyce.brigham@nist.gov.

Where Web sites are referenced within this notice, those without internet access may contact the appropriate Program official to obtain information.

Chemical Science and Technology Laboratory Grants Program

I. Funding Opportunity Description

All proposals submitted to the Chemical Science and Technology Laboratory Grants Program must be in accordance with the program objectives and programs listed below. Proposals submitted to the CSTL Grants Program must address a specific measurement issue relevant to one of the stated CSTL Programs, and must be directed to a specific Division. The appropriate Division Chief for each field of research may be contacted for clarification of the program objectives. Additional information about the Divisions and CSTL Programs may be obtained at the following Web site: http://www.cstl.nist.gov/

CSTL is the United States' primary reference laboratory for chemical measurements, entrusted with developing, maintaining, advancing, and enabling the Nation's chemical measurement system, thereby enhancing industry's productivity and competitiveness, establishing comparability of measurements to facilitate equity of global trade, and improving public health, safety, and environmental quality. CSTL focuses its activities in measurement science research on reference methods, reference materials and reference data, and directs these efforts in support of the following specific Program areas aligned with industrial segments and National priorities:

1. Automotive and Aerospace

2. Biomaterials

3. Pharmaceuticals and Biomanufacturing

4. Chemical and Allied Products

5. Energy Systems

6. Environmental Technologies and Services

7. Food and Nutritional Products

8. Forensics and Homeland Security

9. Health and Medical Products and Services

10. Industrial and Analytical Instruments and Services

11. Microelectronics

These Programs are structured to support CSTL's three objectives:

• Provide the national traceability and international comparability structure for measurements in chemistry, chemical engineering, and biotechnology

• Assure that U.S. industry has access to accurate and reliable data and predictive models to determine the chemical and physical properties of materials and processes

• Anticipate and address next-generation measurement needs of the Nation.

CSTL conducts its research and is organized along disciplinary lines:

Biotechnology Division: DNA chemistry, sequencing; Protein structure, properties, and modeling; Biomaterials; Biocatalysis and bioprocessing measurements. The contact person for this division is: Dr. Vincent L. Vilker, and he may be reached at (301) 975-2629.

Process Measurements Division: Research, calibration services and provision of primary standards for temperature, pressure, vacuum, humidity, fluid flow, air speed, liquid density and volume, and gaseous leak-rate measurements; Sensor research. The contact person for this division is: Dr. James R. Whetstone, and he may be reached at (301) 975-2609.

Surface and Microanalysis Science Division: Nanoscale chemical characterization; Particle characterization and standards; Electronic and advanced materials characterization; Surface and interface chemistry; Advanced isotope metrology. The contact person for this division is: Dr. Richard R. Cavanagh, and he may be reached at (301) 975-2368.

Physical and Chemical Properties Division: Basic reference data; Data for process and product design; Properties of energy-related fluids; Fundamental studies of fluids; Cryogenic technologies; Computational chemistry. The contact person for this division is: Dr. Mickey Haynes, and he may be reached at (303) 497-3247.

Analytical Chemistry Division: Chemical measurements research and services in: Analytical sensing technologies; Classical analytical methods; Gas metrology; Laboratory automation technology; Nuclear analytical methods; Organic analytical methods; and Spectrochemical measurement methods. The contact person for this division is: Dr. Willie E. May, and he may be reached at (301) 975-3108.

As authorized under 15 U.S.C. 272 (b) and (c), the Chemical Science and Technology Laboratory conducts a basic and applied research program directly and through grants and cooperative agreements to eligible recipients.

II. Award Information

No funds have been set aside specifically for support of the CSTL Grants Program. The availability of funds depends upon actual authorization of funds and other costs expected to be incurred by individual divisions within the laboratory. Where funds are identified as available for grants, those funds will be awarded to highly ranked proposals as determined by the process described in this notice.

In fiscal year 2003, the CSTL Grants Program funded 5 new awards, totaling $497,077. In fiscal year 2004, the CSTL Grants Program anticipates funding of approximately $500,000. Individual awards are expected to range from approximately $5,000 to $100,000.

For the Chemical Science and Technology Laboratory Grant Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Chemical Science and Technology Laboratory program, and the availability of funds. The multi-year awards must have scopes of work that can be easily separated into annual increments of meaningful work that represent solid accomplishments if prospective funding is not made available to the applicant, (i.e. the scopes of work for each funding period must produce identifiable and meaningful results in and of themselves).

III. Eligibility Information

1. Eligible Applicants—The Chemical Science and Technology Laboratory Grants Program is open to institutions of higher education; hospitals; non-profit organizations; commercial organizations; state, local, and Indian tribal governments; foreign governments; organizations under the jurisdiction of foreign governments; and international organizations.

2. Cost Sharing or Matching—The Chemical Science and Technology Laboratory Grants Program does not require any matching funds.

IV. Application and Submission Information

1. Address to Request Application Package—For the CSTL Grants Program, an application kit, containing all required application forms and certifications is available by contacting Mr. Neil Alderoty, (301) 975-8303.

2. Content and Form of Application Submission—For the Chemical Science and Technology Laboratory Grant Program applicants are requested to submit one signed original and two copies of the proposal clearly marked to identify the field of research to: Attn: Dr. William F. Koch, National Institute of Standards and Technology, 100 Bureau Drive, Stop 8300, Gaithersburg, MD 20899-8300, Tel (301) 975-8301, E-Mail: william.koch@nist.gov.

3. Submission Dates and Times—The Chemical Science and Technology Laboratory Grants Program proposals must be received no later than 5 p.m. Eastern Standard Time on September 30, 2004. Proposals received after June 30, 2004 will continue to be processed and considered for funding but may be funded in the next fiscal year, subject to the availability of funds.

V. Application Review Information

1. Criteria—For the Chemical Science and Technology Laboratory Grants Program, the evaluation criteria the technical reviewers will use in evaluating the proposals are as follows:

a. Rationality. Reviewers will consider the coherence of the applicant's approach and the extent to which the proposal effectively addresses scientific and technical issues.

b. Qualifications of Technical Personnel. Reviewers will consider the professional accomplishments, skills, and training of the proposed personnel to perform the work in the project.

c. Resources Availability. Reviewers will consider the extent to which the proposer has access to the necessary facilities and overall support to accomplish project objectives.

d. Technical Merit of Contribution. Reviewers will consider the potential technical effectiveness of the proposal and the value it would contribute to the field of measurement science, especially as it pertains to reference methods, reference materials and reference data in Chemical Science and Technology.

Each of these factors will be given equal weight in the evaluation process.

2. Review and Selection Process—For the Chemical Science and Technology Laboratory Grants Program, proposals will be reviewed in a three-step process. First, the Deputy Director of CSTL, or appropriate CSTL Division Chief, will determine the compatibility of the applicant's proposal with CSTL Program Areas, the alignment of the measurement issue that the proposal addresses with division activities, and the relevance to the objectives of the Chemical Science and Technology Laboratory Grants Program. These objectives are described in the “Program Objectives” section. If it is determined that the proposal is incomplete or non-responsive to the scope of the stated objectives, the proposal will not be reviewed for technical merit. If it is determined that all funds available for the CSTL Grants Program for the given year have been exhausted, the proposal will not be reviewed for technical merit. If a proposal is determined to be incomplete or non-responsive, or if it is determined that all available funds have been exhausted, the CSTL Grants Program will retain one copy of the proposal for three years for record keeping purposes. The remaining copies will be destroyed.

Second, at least three independent, objective individuals knowledgeable about the particular measurement science area described in the section above that the proposal addresses will conduct a technical review of each proposal, based on the evaluation criteria described above. Reviews will be conducted on a quarterly basis, and all responsive, complete proposals received and reviewed since the last quarter will be ranked based on the reviewers' scores. If non-Federal reviewers are used, the reviewers may discuss the proposals with each other, but scores will be determined on an individual basis, not as a consensus.

Third, the Division Chief will make application selections, taking into consideration the results of the reviewers' evaluations, the availability of funds, and the relevance of the proposal to the programmatic priorities of the Division described in the Program Description and Objectives section above.

The final approval of selected applications and award of financial assistance will be made by the NIST Grants Officer based on compliance with application requirements as published in this notice, compliance with applicable legal and regulatory requirements, compliance with Federal policies that best further the objectives of the Department of Commerce, and whether the recommended applicants appear to be responsible. Applicants may be asked to modify objectives, work plans, or budgets and provide supplemental information required by the agency prior to award. The decisions of the Grants Officer are final.

Unsuccessful applicants will be notified in writing. The Program will retain one copy of each unsuccessful application for three years for record keeping purposes. The remaining copies will be destroyed.

VI. Award Administration Information

Award administration information for this program may be found in the Award Administration Information section at the end of this notice.

VII. Agency Contacts

For information on the Chemical Science and Technology Laboratory Grants Program, please contact Dr. William Koch, (301) 975-8301.

All grants related administration questions concerning this program should be addressed to: Joyce Brigham, NIST Grants and Agreements Management Division, (301) 975-6328; joyce.brigham@nist.gov.

Where Web sites are referenced within this notice, those without internet access may contact the appropriate Program official to obtain information.

Physics Laboratory Grants Program

I. Funding Opportunity Description

All proposals submitted to the Physics Laboratory Grants Program must be in accordance with the program objectives listed below. The appropriate Program Manager for each field of research may be contacted for clarification of the program objectives.

A. Electron and Optical Physics Division, 841—The primary objective is to supplement division activities in characterization of nanometer-scale electronic and magnetic structures and characterization of EUV optical components to support semiconductor lithography and ultraviolet radiometric metrology and to support ongoing activities in Bose-Einstein condensation and quantum information. The contact person for this division is Dr. Charles W. Clark and he may be reached at (301) 975-3709.

B. Atomic Physics Division, 842—The primary objective is to support division programs aimed at determining basic atomic properties and developing new metrology techniques in atomic spectroscopy, quantum processes, plasma radiation, laser cooling and trapping, and quantum metrology. The contact person for this division is Dr. Wolfgang L. Wiese and he may be reached at (301) 975-3200.

C. Optical Technology Division, 844—The primary objective is to develop, improve, and maintain national standards for radiation thermometry, spectroradiometry, photometry, and spectrophotometry and to conduct basic theoretical and experimental research on the photophysical and photochemical properties of materials, in radiometric and spectroscopic techniques and instrumentation, and in the application of optical technologies. The contact person for this division is Dr. Albert C. Parr and he may be reached at (301) 975-2316.

D. Ionizing Radiation Division, 846—The primary objective is to provide primary standards, measurement methods, and technology to support the Division's work in meeting national needs in radiation interactions and dosimetry, neutron interactions and dosimetry, and radioactivity, including both theoretical/experimental and applied research programs in support of Industry, Health Care, and Homeland Security. The contact person for this division is Dr. Lisa R. Karam and she may be reached at (301) 975-5561.

E. Time and Frequency Division, 847—The primary objective is to supplement division basic and applied research programs in the areas of time and frequency standards, phase noise measurements, network synchronization, ion storage, quantum information, atomic standards and optical frequency measurements in support of future standards, chip-scale atomic clocks, time and frequency dissemination services, support of time and frequency applications such as navigational systems and telecommunications, and measurement methods. The contact person for this division is Dr. Thomas R. O'Brian and he may be reached at (303) 497-4570.

As authorized under 15 U.S.C. 272 (b) and (c), the Physics Laboratory conducts a basic and applied research program directly and through grants and cooperative agreements to eligible recipients.

II. Award Information

In fiscal year 2003, the PL Grants Program funded 8 new awards, totaling $693,131. In fiscal year 2004, the PL Grants Program anticipates funding of approximately $1,700,000, including new awards and continuing projects. Funding availability will be apportioned by quarter. Individual awards are expected to range from approximately $5,000 to $300,000.

For the Physics Laboratory Grants Program, proposals will be considered for research projects from one to three years. When a proposal for a multi-year project is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Physics Laboratory program, and the availability of funds. The multi-year awards must have scopes of work that can be easily separated into annual increments of meaningful work that represent solid accomplishments if prospective funding is not made available to the applicant (i.e., the scopes of work for each funding period must produce identifiable and meaningful results in and of themselves).

III. Eligibility Information

1. Eligible Applicants—The Physics Laboratory Grants Program is open to institutions of higher education; hospitals; non-profit organizations; commercial organizations; state, local, and Indian tribal governments; foreign governments; organizations under the jurisdiction of foreign governments; and international organizations.

2. Cost Sharing or Matching—The Physics Laboratory Grants Program does not require any matching funds.

IV. Application and Submission Information

1. Address to Request Application Package—For the Physics Laboratory Grants Program, an application kit, containing all required application forms and certifications is available by contacting Ms. Anita Sweigert, (301) 975-4200.

2. Content and Form of Application Submission—For the Physics Laboratory Grant Program applicants are requested to submit one signed original and two copies of the proposal clearly marked to identify the field of research to: Attn. Ms. Anita Sweigert, National Institute of Standards and Technology, 100 Bureau Drive, Stop 8400, Gaithersburg, MD. 20899-8400, Tel (301) 975-4200, E-Mail: anita.sweigert@nist.gov.

3. Submission Dates and Times—The Physics Laboratory Grants Program proposals must be received no later than 5 p.m. Eastern Standard Time on September 30, 2004. Any proposals received after June 30, 2004 will be processed and considered for funding, but might not be funded until the next fiscal year, subject to the availability of funds.

V. Application Review Information

1. Criteria—For the Physics Laboratory Grants Program, the evaluation criteria the technical reviewers will use in evaluating the proposals are as follows:

a. Rationality. Reviewers will consider the coherence of the applicant's approach and the extent to which the proposal effectively addresses scientific and technical issues.

b. Qualifications of Technical Personnel. Reviewers will consider the professional accomplishments, skills, and training of the proposed personnel to perform the work in the project.

c. Resources Availability. Reviewers will consider the extent to which the proposer has access to the necessary facilities and overall support to accomplish project objectives.

d. Technical Merit of Contribution. Reviewers will consider the potential technical effectiveness of the proposal and the value it would contribute to the field of physics.

Each of these factors will be given equal weight in the evaluation process.

2. Review and Selection Process—For the Physics Laboratory Grants Program, responsive proposals will be considered as follows: First, at least three independent, objective individuals knowledgeable about the particular scientific area described in the section above that the proposal addresses will conduct a technical review of each proposal, based on the evaluation criteria described above. Reviews will be conducted on a monthly basis, and all proposals received during the month will be ranked based on the reviewers' scores. If non-Federal reviewers are used, reviewers may discuss the proposals with each other, but scores will be determined on an individual basis, not as a consensus.

Next, the Division Chief will make final application selections, taking into consideration the results of the reviewers' evaluations, including rank; the compilation of a slate that, when taken as a whole, is likely to best further the program goals described above; and the availability of funds.

The final approval of selected applications and award of financial assistance will be made by the NIST Grants Officer based on compliance with application requirements as published in this notice, compliance with applicable legal and regulatory requirements, compliance with Federal policies that best further the objectives of the Department of Commerce, and whether the recommended applicants appear to be responsible.

Applicants may be asked to modify objectives, work plans, or budgets and provide supplemental information required by the agency prior to award.

The decisions of the Grants Officer are final.

Unsuccessful applicants will be notified in writing. The Program will retain one copy of each unsuccessful application for three years for record keeping purposes. The remaining copies will be destroyed.

VI. Award Administration Information

Award administration information for this program may be found in the Award Administration Information section at the end of this notice.

VII. Agency Contact(s)

Technical contacts by area are:

Electron and Optical Physics Division, 841—Dr. Charles W. Clark; (301) 975-3709.

Atomic Physics Division, 842—Dr. Wolfgang L. Wiese; (301) 975-3200.

Optical Technology Division, 844—Dr. Albert C. Parr; (301) 975-2316.

Ionizing Radiation Division, 846—Dr. Lisa R. Karam; (301) 975-5561.

Time and Frequency Division, 847—Dr. Thomas R. O'Brian; (303) 497-4570.

All grants related administration questions concerning this program should be addressed to: Joyce Brigham, NIST Grants and Agreements Management Division, (301) 975-6328; joyce.brigham@nist.gov.

Where Web sites are referenced within this notice, those without internet access may contact the appropriate Program official to obtain information.

MSEL Grants Program

I. Funding Opportunity Description

All proposals submitted to the MSEL Grants Program must be in accordance with the program objectives listed below. The appropriate Program Manager for each field of research may be contacted for clarification of the program objectives.

A. Laboratory Office, 850—The primary objective is to supplement Materials Science and Engineering Laboratory activities of importance to materials science generally, including portions of Federal research and development programs performed in concert with other Federal agencies; and theoretical and computational materials science. The contact person for the Laboratory Office is: Dr. Stephen W. Freiman and he may be reached at (301) 975-5658 or by e-mail at stephen.freiman@nist.gov.

B. Ceramics Division, 852—The primary objective is to supplement division activities in the areas of nanomechanical properties, nanotribology, electronic and optoelectronic materials, x-ray structural characterization methods, and materials property information systems and evaluation methodologies. The contact person for this division is: Dr. Ronald Munro and he may be reached at (301) 975-6127 or by e-mail at ronald.munro@nist.gov.

C. Materials Reliability Division, 853—The primary objective is to supplement division activities in the metrology of microelectronic and optoelectronic structures, thin films and nanostructures, and biomaterials. The contact person for this division is: Dr. Thomas Siewert and he may be reached at (303) 497-3523 or by e-mail at siewert@boulder.nist.gov.

D. Polymers Division, 854—The primary objective is to support division programs in electronics materials, biomaterials, combinatorial methods, nano-structured materials and processing characterization through participation in research on metrology, synthesis, processing and characterization of structure, mechanical, thermal and electrical properties. The contact person for this division is: Dr. Bruno Fanconi and he may be reached at (301) 975-6769 or by e-mail at bruno.fanconi@nist.gov.

E. Metallurgy Division, 855—The primary objective is to support division programs in magnetic materials, combinatorial methods, computational materials science, mechanics of materials, nanostructured materials and processing, and electronic materials. The contact person for this division is: Dr. Frank W. Gayle and he may be reached at (301) 975-6161 or by e-mail at frank.gayle@nist.gov.

F. NIST Center for Neutron Research, 856—The primary objective is to develop high resolution cold and thermal neutron scattering research approaches and related physics, chemistry, macromolecular and materials applications. Awards to universities for participation by university students in the NIST/NSF Center for High Resolution Scattering are also funded under this program. The contact person for this division is: Dr. John J. Rush and he may be reached at (301) 975-6231 or by e-mail at john.rush@nist.gov.

The authority for the MSEL Grants Program is as follows: As authorized under 15 U.S.C. 272(b) and (c), the MSEL conducts a basic and applied research program directly and through grants and cooperative agreements to eligible recipients.

II. Award Information

In fiscal year 2003, the MSEL Grants Program funded 32 new awards, totaling $2,816,843. In fiscal year 2004, the MSEL Grants Program anticipates funding of approximately $4,500,000, including new awards and continuing projects. Most grants and cooperative agreements are expected to be in the $25,000 to $100,000 per year range.

For the MSEL Grants Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the MSEL program, and the availability of funds. The multi-year awards must have scopes of work that can be easily separated into annual increments of meaningful work that represent solid accomplishments if prospective funding is not made available to the applicant, (i.e., the scopes of work for each funding period must produce identifiable and meaningful results in and of themselves).

III. Eligibility Information

1. Eligible Applicants—The MSEL Grants Program is open to institutions of higher education; hospitals; non-profit organizations; commercial organizations; state, local, and Indian tribal governments; foreign governments; organizations under the jurisdiction of foreign governments; and international organizations.

2. Cost Sharing or Matching—The MSEL Grants Program does not require any matching funds.

IV. Application and Submission Information

1. Address to Request Application Package—For the MSEL Grants Program, an application kit, containing all required application forms and certifications is available by contacting Ms. Tanya Burke, (301) 975-4711.

2. Content and Form of Application Submission—For the MSEL Grants Program, submit one signed original and two copies of the proposal, clearly marked to identify the field of research, to: Materials Science and Engineering Laboratory, Attn.: Dr. Stephen W. Freiman, National Institute of Standards and Technology, 100 Bureau Drive, Stop 8500, Gaithersburg, Maryland 20899-8500, Tel: (301) 975-5658, E-mail: stephen.freiman@nist.gov.

3. Submission Dates and Times—The MSEL Grants Program proposals must be received no later than 5 p.m. Eastern Standard Time on September 30, 2004. Proposals received after June 30, 2004 will continue to be processed and considered for funding but may be funded in the next fiscal year, subject to the availability of funds. Each applicant must submit one signed original and two copies of each proposal along with a Grant Application (Standard Form 424 REV. 7/97 and other required forms).

V. Application Review Information

1. Criteria—For the MSEL Grants Program, the evaluation criteria the technical reviewers will use in evaluating the proposals are as follows:

a. Rationality. Reviewers will consider the coherence of the applicant's approach and the extent to which the proposal effectively addresses scientific and technical issues.

b. Qualifications of Technical Personnel. Reviewers will consider the professional accomplishments, skills, and training of the proposed personnel to perform the work in the project.

c. Resources Availability. Reviewers will consider the extent to which the proposer has access to the necessary facilities and overall support to accomplish project objectives.

d. Technical Merit of Contribution. Reviewers will consider the potential technical effectiveness of the proposal and the value it would contribute to the field of materials science and engineering and neutron research.

Each of these factors will be given equal weight in the evaluation process.

2. Review and Selection Process—For the MSEL Grants Program proposals will be reviewed in a two-step process. First, at least three independent, objective individuals knowledgeable about the particular scientific area described in the section above that the proposal addresses will conduct a technical review of proposals, as they are received on a rolling basis, based on the evaluation criteria. If non-Federal reviewers are used, the reviewers may discuss the proposals with each other, but scores will be determined on an individual basis, not as a consensus. Second, the Division Chief or Center Director will make application selections. In making application selections, the Division Chief or Center Director will take into consideration the results of the reviewers' evaluations, the compatibility of the applicant's proposal with the program objectives of the particular division or center that the proposal addresses, the availability of funds, and relevance to the objectives of the MSEL Grants Program. These objectives are described above in the “Program Objectives” section. The final approval of selected applications and award of financial assistance will be made by the NIST Grants Officer based on compliance with application requirements as published in this notice, compliance with applicable legal and regulatory requirements, compliance with Federal policies that best further the objectives of the Department of Commerce, and whether the recommended applicants appear to be responsible. Applicants may be asked to modify objectives, work plans, or budgets and provide supplemental information required by the agency prior to award. The decision of the Grants Officer is final.

Unsuccessful applicants will be notified in writing. The Program will retain one copy of each unsuccessful application for three years for record keeping purposes. The remaining copies will be destroyed.

VI. Award Administration Information

Award administration information for this program may be found in the Award Administration Information section at the end of this notice.

VII. Agency Contact(s)

Technical contacts by area are:

Laboratory Office, 850—Dr. Stephen W. Freiman; (301) 975-5658; stephen.freiman@nist.gov.

Ceramics Division, 852—Dr. Ronald Munro; (301) 975-6127; ronald.munro@nist.gov.

Materials Reliability Division, 853—Dr. Thomas Siewert; (303) 497-3523; siewert@boulder.nist.gov.

Polymers Division, 854—Dr. Bruno Fanconi; (301) 975-6769; bruno.fanconi@nist.gov.

Metallurgy Division, 855—Dr. Frank W. Gayle; (301) 975-6161; frank.gayle@nist.gov.

NIST Center for Neutron Research, 856—Dr. John J. Rush; (301) 975-6231; john.rush@nist.gov.

All grants related administration questions concerning this program should be addressed to: Joyce Brigham, NIST Grants and Agreements Management Division, (301) 975-6328; joyce.brigham@nist.gov.

Where Web sites are referenced within this notice, those without internet access may contact the appropriate Program official to obtain information.

Building Research Grants and Cooperative Agreements Program

I. Funding Opportunity Description

The Building Research Grants and Cooperative Agreements Program supports the formal mission of the Building and Fire Research Laboratory, which is to meet the measurement and standards needs of the Building and Fire communities. All proposals submitted must be in accordance with the program objectives listed below. The appropriate Program Manager for each field of research may be contacted for clarification of the program objectives.

A. Materials and Construction Research Division, 861—The primary objective is to support laboratory programs in the areas of Structures, Construction Metrology and Automation, Inorganic Materials, and Polymeric Materials (including safety, security, and sustainability of building and physical infrastructure, service-life performance of building materials, and construction cycle time reductions). The contact person for this division is: Dr. Shyam Sunder, and he may be reached at (301) 975-6061.

B. Building Environment Division, 863—The primary objective is to support laboratory programs in the areas of related to the dynamic modeling of moisture in building walls, the dissemination of Critical Building Information to First Responders, security issues related to ASHRAE's BACnet protocol, secure and reliable BACnet/electric utility communications, biometric applications in building automation systems, information representation and exchange and access methods for building commissioning and operations, life-cycle information management in buildings, and computer integrated building processes and services. The contact person for this division is: Dr. George E. Kelly, and he may be reached at (301) 975-5850.

For details on these various activities, please see the Building and Fire Research Laboratory Web site at http://www.bfrl.nist.gov. Note that documents describing the current programs for the two technical divisions are available through the homepage.

As authorized by 15 U.S.C. 272(b) and (c), the NIST Building and Fire Research Laboratory conducts a basic and applied research program directly and through grants and cooperative agreements to eligible recipients.

II. Award Information

Over the past three years, the building divisions of the Building and Fire Research Laboratory funded a total of approximately $1,000,000 in grants and cooperative agreements. In fiscal year 2003, the Building Research Grants and Cooperative Agreements Program funded 6 new awards, totaling $654,793. The amount available each year fluctuates considerably based on programmatic needs. Individual awards are expected to range between $5,000 and $150,000.

For the Building Research Grants and Cooperative Agreements Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the Building Research Grants and Cooperative Agreements Program, and the availability of funds. The multi-year awards must have scopes of work that can be easily separated into annual increments of meaningful work that represent solid accomplishments if prospective funding is not made available to the applicant, (i.e., the scopes of work for each funding period must produce identifiable and meaningful results in and of themselves).

III. Eligibility Information

1. Eligible Applicants—The Building Research Grants and Cooperative Agreements Program is open to institutions of higher education; hospitals; non-profit organizations; commercial organizations; state, local, and Indian tribal governments; foreign governments; organizations under the jurisdiction of foreign governments; and international organizations.

2. Cost Sharing or Matching—The Building Research Grants and Cooperative Agreements Program does not require any matching funds.

IV. Application and Submission Information

1. Address to Request Application Package—An application kit, containing all required application forms and certifications is available by contacting: Karen Perry, (301) 975-5910.

2. Content and Form of Application Submission—For the Building Research Grants and Cooperative Agreements Program, submit one signed original and two copies of the proposal package to: Building and Fire Research Laboratory, Attn.: Karen Perry, National Institute of Standards and Technology, 100 Bureau Drive, Stop 8602, Gaithersburg, MD 20899-8602, Tel.: (301) 975-5910, Fax: (301) 975-4032, http://www.bfrl.nist.gov.

3. Submission Dates and Times—The Building Research Grants and Cooperative Agreements Program proposals must be received no later than 5 p.m. Eastern Standard Time on September 30, 2004. Proposals received after June 30, 2004 will continue to be processed and considered for funding but may be funded in the next fiscal year, subject to the availability of funds.

V. Application Review Information

1. Criteria—The Divisions will score proposals based on the following criteria and weights:

a. Technical quality of the research. Reviewers will assess the rationality, innovation and imagination of the proposal and the fit to NIST's in-house building research programs. (0-35 points)

b. Potential impact of the results. Reviewers will assess the potential impact and the technical application of the results to our in-house programs and the building industry. (0-25 points)

c. Staff and institution capability to do the work. Reviewers will evaluate the quality of the facilities and experience of the staff to assess the likelihood of achieving the objective of the proposal. (0-20 points)

d. Match of budget to proposed work. Reviewers will assess the budget against the proposed work to ascertain the reasonableness of the request. (0-20 points)

2. Review and Selection Process—All applications received in response to this announcement will be reviewed to determine whether or not they are complete and responsive. Incomplete or non-responsive applications will not be reviewed for technical merit. The Program will retain one copy of each non-responsive application for three years for recordkeeping purposes. The remaining copies will be destroyed.

Responsive proposals will be forwarded to the appropriate Division Chief, who will assign them to appropriate reviewers. At least three independent, objective individuals knowledgeable about the particular scientific area described above that the proposal addresses will conduct a technical review of each proposal, based on the evaluation criteria described above. When non-Federal reviewers are used, reviewers may discuss the proposals with each other, but scores will be determined on an individual basis, not as a consensus. Reviews will be conducted no less than once per quarter, and all proposals since the last review session will be ranked based on the reviewers' scores.

Next, the Division Chief, Laboratory Deputy Director, or Laboratory Director will make application selections. In making application selections, the Division Chief, Laboratory Deputy Director, or Laboratory Director will take into consideration the results of the evaluations, the scores of the reviewers, the availability of funds, and relevance to the objectives of the Building Research Grants and Cooperative Agreements Program, as described in the Program Description and Objectives section for this program.

The final approval of selected applications and award of financial assistance will be made by the NIST Grants Officer based on compliance with application requirements as published in this notice, compliance with applicable legal and regulatory requirements, compliance with Federal policies that best further the objectives of the Department of Commerce, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

VI. Award Administration Information

Award administration information for this program may be found in the Award Administration Information section at the end of this notice.

VII. Agency Contact(s)

Technical contacts by area are:

Materials and Construction Research Division, 861—Dr. Shyam Sunder; (301) 975-6061.

Building Environment Division, 863—Dr. George E. Kelly; (301) 975-5850.

All grants related administration questions concerning this program should be addressed to: Joyce Brigham, NIST Grants and Agreements Management Division, (301) 975-6328; joyce.brigham@nist.gov.

Where Web sites are referenced within this notice, those without internet access may contact the appropriate Program official to obtain information.

Fire Research Grants Program

I. Funding Opportunity Description

The program description and objectives for the Fire Research Grants Program are as follows:

A. Analysis and Prediction Group: The objectives are to develop understanding and predictive methods for dynamic fire phenomena to advance fire science and engineering practice and to perform research into the heat and mass transfer processes occurring in fires in order to improve predictions of (1) the growth, spread, and suppression of fires; (2) the reaction of structures to fires; and (3) emissions transport from fires of all scales. Experiments and metrology are developed and used to support and verify advanced computer simulations of fire phenomena, fire hazards, fire protection, and fire fighting. The contact person for this group is: Dr. Anthony Hamins, and he may be reached at (301) 975-6598.

B. Fire Metrology Group: The objective is to apply measurement science in the development and quantification of experimental methods and to apply these measurement methods, supplemented by theoretical analyses, to understanding fire phenomena, and the reaction of materials and structures to fire. Current areas of emphasis are understanding the effects of soot volume fraction, temperature, and soot optical properties on the radiant flux in a fire environment, developing a quality facility for heat release rate measurements, instituting large field optical diagnostics for the characterization of fire induced flows, and measuring deformation and stress of structural members in a fire. The contact person for this group is: Dr. Jiann Yang, and he may be reached at (301) 975-6662.

C. Fire Fighting Technology Group: The objectives are to conduct research that enables advances in fire fighter safety, fire ground operations, and effectiveness of the fire service; that develop and apply measurements, modeling, and technology, and improve the understanding of the behavior, prevention and control of fires to enhance fire fighting operations and equipment, fire suppression, fire investigations, and disaster response; and that provide input, including experimental data, fire modeling and test protocols, to advance the effectiveness of fire safety standards and codes. The contact person for this group is Mr. Nelson Bryner, and he may be reached at (301) 975-6868.

D. Materials and Products Group: The objective is to perform research enabling the confident development by industry of new, less-flammable materials and products. This capability is based on understanding fundamentally the mechanisms that control the ignition, flame spread and burning rate of materials, as well as the chemical and physical characteristics that affect these aspects of flammability. This includes (1) developing methods of measuring the response of a material to fire conditions that enable assured prediction of the full-scale performance of the final product; (2) developing computational molecular dynamics and other mechanistic approaches to understand flame retardant mechanisms and the effects of polymer chemical structure on flammability; (3) characterizing the burning rates of charring and non-charring polymers and composites; and (4) delineating and modeling the enthalpy and mass transfer mechanisms of materials combustion. A fifth area of interest is fundamental materials studies to advance the development of inorganic and organic structural fire protective coatings and materials. Prediction and measurement of thermal/mechanical properties, durability, adhesion, and cohesion under fire conditions and long-time environmental exposure are of interest. The contact person for this group is Dr. Marc Nyden, and he can be reached at (301) 975-6692.

E. Integrated Performance Assessment Group: The objectives are to create and disseminate enhanced data, develop fundamental understanding of fire and emergency phenomena, and support computer modeling and prediction of (1) fire detection and building fire systems; (2) human behavior and egress during building (fire) emergencies; (3) toxicity of combustion products; (4) fire hazard and risk assessment; (5) decision analysis; (6) fire fighting operations and training; and (6) fire investigation. Modeling and enhanced data are used to conduct performance evaluation and design of fire protection systems in buildings and to quantify and reduce uncertainty in model predictions. Enhanced data is disseminated through development of multi-medial web-enabled databases. The content and process associated with the building and fire codes and standards system is another current area of focus. In recent decades, tremendous advances have been made in computing, measurement, and information technologies, as well as in the ability to predict various aspects of building life cycle performance. Current approaches to building quality assurance, including public health and safety regulation of buildings, are based on a long history of codes and standards. These, in turn, rest on a number of assumptions, many implicit, about the extent to which building performance or risk can be measured or predicted, and the means for doing so. What is desired is a theoretical basis for an examination of the entire subject of quality control of buildings over their entire life cycles, as a framework for analysis of the opportunities for the use of advances in technology to improve the reliability and cost-effectiveness of building quality control measures. In particular, NIST is interested in funding academic research at the Masters or Ph.D. thesis level in one or more of the following areas: (1) Development of a theoretical framework for building life cycle quality assurance and an analysis of the relative effectiveness of our building and fire codes system; (2) Establishment of a theoretical basis for development of alternative strategies for building life cycle quality assurance, including public health and safety regulation of buildings; and (3) an analysis of the potential impacts of application of advances of measurement, information, computing and building technologies to building life cycle quality and safety assurance. The contact person for this group is: Dr. William Davis, and he can be reached at (301) 975-6884.

As authorized by 15 U.S.C. 278f, the NIST Building and Fire Research Laboratory conducts directly and through grants and cooperative agreements, a basic and applied fire research program.

II. Award Information

For the Fire Research Grants Program, the annual budget is approximately $1.0 to $1.5 million. Because of commitments for the support of multi-year projects and because proposals may have been deferred from the previous year's competition, only a portion of the budget is available to fund applications received in response to this notice. Most grants and cooperative agreements are in the $25,000 to $125,000 per year range, with a maximum requested duration of three years. In fiscal year 2003, the Fire Research Grants Program funded 9 new awards, totaling $844,114.

For the Fire Research Grants Program, proposals will be considered for research projects from one to three years. When a proposal for a multi-year project is approved, funding will normally be provided for only the first year of the program. If an application is selected for funding, DoC has no obligation to provide any additional future funding in connection with that award. Funding for each subsequent year of a multi-year proposal will be contingent on satisfactory progress, continuing relevance to the mission of the NIST Fire Research Program, and the availability of funds.

III. Eligibility Information

1. Eligible Applicants—The Fire Research Grants Program is open to institutions of higher education; hospitals; non-profit organizations; commercial organizations; state, local, and Indian tribal governments; foreign governments; organizations under the jurisdiction of foreign governments; and international organizations.

2. Cost Sharing or Matching—The Fire Research Grants Program does not require any matching funds.

IV. Application and Submission Information

1. Address to Request Application Package—For the Fire Research Grants Program, an application kit, containing all required application forms and certifications is available by contacting Ms. Wanda Duffin-Ricks, (301) 975-6863, Web site: http://www.bfrl.nist.gov.

2. Content and Form of Application—For the Fire Research Grants Program submit one signed original and two copies of the proposal to: Building and Fire Research Laboratory (BFRL), Attn.: Ms. Wanda Duffin-Ricks, National Institute of Standards and Technology, 100 Bureau Drive, Stop 8660, Gaithersburg, Maryland 20899-8660, Tel: (301) 975-6863, E-mail: wanda.duffin@nist.gov, Web site: http://www.bfrl.nist.gov.

3. Submission Dates and Times—The Fire Research Grants Program proposals must be received no later than 5 p.m. Eastern Standard Time on September 30, 2004. Proposals received after April 30, 2004 will continue to be processed and considered for funding but may be funded in the next fiscal year, subject to the availability of funds.

V. Application Review Information

1. Criteria—For the Fire Research Grants Program, the technical evaluation criteria are as follows:

a. Technical quality of the research. Reviewers will assess the rationality, innovation and imagination of the proposal. (0-35 points).

b. Potential impact of the results. Reviewers will assess the potential impact and the technical application of the results to the fire safety community. (0-25 points)

c. Staff and institution capability to do the work. Reviewers will evaluate the quality of the facilities and experience of the staff to assess the likelihood of achieving the objective of the proposal. (0-20 points)

d. Match of budget to proposed work. Reviewers will assess the budget against the proposed work to ascertain the reasonableness of the request. (0-20 points)

2. Review and Selection Process—Prospective proposers are encouraged to contact the above group leaders to determine the extent of interest prior to preparation of a detailed proposal. Responsive proposals will be assigned, as received on a rolling basis, to the most appropriate group. Proposals are evaluated for technical merit based on the evaluation criteria described above by at least three reviewers chosen from NIST professionals, technical experts from other interested government agencies, and experts from the fire research community at large. When non-Federal reviewers are used, reviewers may discuss the proposals with each other, but scores will be determined on an individual basis, not as a consensus. The group leaders will make funding recommendations to the Division Chief based on the technical evaluation score and the relationship of the work proposed to the objectives of the program.

In making application selections, the Division Chief will take into consideration the results of the evaluations, the scores of the reviewers, the group leader's recommendation, the availability of funds, and relevance to the objectives of the Fire Research Grants Program, as described in the Program Description and Objectives section for this program. The final approval of selected applications and award of financial assistance will be made by the NIST Grants Officer based on compliance with application requirements as published in this notice, compliance with applicable legal and regulatory requirements, compliance with Federal policies that best further the objectives of the Department of Commerce, and whether the recommended applicants appear to be responsible. Applicants may be asked to modify objectives, work plans, or budgets and provide supplemental information required by the agency prior to award. The award decision of the Grants Officer is final. Applicants should allow up to 90 days processing time.

Unsuccessful applicants will be notified in writing. The Program will retain one copy of each unsuccessful application for three years for record keeping purposes. The remaining copies will be destroyed.

VI. Award Administration Information

Award administration information for this program may be found in the Award Administration Information section at the end of this notice.

VII. Agency Contact(s)

Technical contacts by area are:

Analysis and Prediction Group—Dr. Anthony Hamins; (301) 975-6598.

Fire Metrology Group—Dr. George Mulholland; (301) 975-6695.

Fire Fighting Technology Group—Mr. Nelson Bryner; (301) 975-6868.

Materials and Products Group—Dr. Marc Nyden; (301) 975-6692.

Integrated Performance Assessment Group—Dr. Kathy Notarianni; (301) 975-6883.

All grants related administration questions concerning this program should be addressed to: Joyce Brigham, NIST Grants and Agreements Management Division, (301) 975-6328; joyce.brigham@nist.gov.

Where Web sites are referenced within this notice, those without internet access may contact the appropriate Program official to obtain information.

VI. Award Administration Information

The following award administration information applies to all programs announced in this notice.

1. Award Notices:

A successful applicant will be notified of award through the receipt of an obligated/approved Financial Assistance Award document. The document, which will include the award period, the budget, special award conditions, and applicable policy and regulatory references that will govern the award, is sent to the successful applicant via surface mail and requires a counter-signature of an authorized official.

2. Administrative and National Policy Requirements:

a. Catalog of Federal Domestic Assistance Name and Number: Measurement and Engineering Research and Standards—11.609.

b. The Department of Commerce Pre-Award Notification Requirements for Grants and Cooperative Agreements contained in the Federal Register notice of October 1, 2001 (66 FR 49917), as amended by the Federal Register notice published on October 30, 2002 (67 FR 66109), are applicable to this solicitation. On the form SF-424, the applicant's 9-digit Dun and Bradstreet Data Universal Numbering System (DUNS) number must be entered in the Applicant Identifier block. In addition, the following information is applicable to all programs described above.

c. Collaborations with NIST Employees: All applications should include a description of any work proposed to be performed by an entity other than the applicant, and the cost of such work should ordinarily be included in the budget.

If an applicant proposes collaboration with NIST, the statement of work should include a statement of this intention, a description of the collaboration, and prominently identify the NIST employee(s) involved, if known. Any collaboration by a NIST employee must be approved by appropriate NIST management and is at the sole discretion of NIST. Prior to beginning the merit review process, NIST will verify the approval of the proposed collaboration. Any unapproved collaboration will be stricken from the proposal prior to the merit review.

d. Use of NIST Intellectual Property: If the applicant anticipates using any NIST-owned intellectual property, to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. sec. 200-212, 37 CFR part 401, 15 CFR 14.36, and in section 20 of the Department of Commerce Pre-Award Notification Requirements, 66 FR 49917 (2001), as amended by the Federal Register notice published on October 30, 2002 (67 FR 66109). Questions about these requirements may be directed to the Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

e. Funding Availability: For all Financial Assistance programs listed in this notice, awards are contingent on the availability of funds.

f. Initial Screening of all Applications: All applications received in response to this announcement will be reviewed to determine whether or not they are complete and responsive to the scope of the stated objectives for each program. Incomplete or non-responsive applications will not be reviewed for technical merit. The Program will retain one copy of each non-responsive application for three years for record keeping purposes. The remaining copies will be destroyed.

g. Fees and/or Profit: It is not the intent of NIST to pay fee or profit for any of the financial assistance awards that may be issued pursuant to this announcement.

h. Paperwork Reduction Act: The standard forms in the application kit involve a collection of information subject to the Paperwork Reduction Act. The use of Standard Forms 424, 424A, 424B, SF-LLL, CD-346, SF-269, and SF-272 have been approved by OMB under the respective Control Numbers 0348-0043, 0348-0044, 0348-0040, 0348-0046, 0605-0001, 0348-0039, and 0348-0003.

Notwithstanding any other provision of the law, no person is required to respond to, nor shall any person be subject to a penalty for failure to comply with, a collection subject to the requirements of the Paperwork Reduction Act, unless that collection of information displays a currently valid OMB Control Number.

i. Research Projects Involving Human Subjects, Human Tissue, Data or Recordings Involving Human Subjects: Any proposal that includes research involving human subjects, human tissue, data or recordings involving human subjects must meet the requirements of the Common Rule for the Protection of Human Subjects, codified for the Department of Commerce at 15 CFR part 27. In addition, any proposal that includes research on these topics must be in compliance with any statutory requirements imposed upon the Department of Health and Human Services (DHHS) and other federal agencies regarding these topics, all regulatory policies and guidance adopted by DHHS, FDA, and other Federal agencies on these topics, and all Presidential statements of policy on these topics.

On December 3, 2000, the U.S. Department of Health and Human Services (DHHS) introduced a new Federalwide Assurance of Protection of Human Subjects (FWA). The FWA covers all of an institution's Federally-supported human subjects research, and eliminates the need for other types of Assurance documents. The Office for Human Research Protections (OHRP) has suspended processing of multiple project assurance (MPA) renewals. All existing MPAs will remain in force until further notice. For information about FWAs, please see the OHRP Web site at http://ohrp.osophs.dhhs.gov/humansubjects/assurance/fwas.htm

In accordance with the DHHS change, NIST will continue to accept the submission of human subjects protocols that have been approved by Institutional Review Boards (IRBs) possessing a current, valid MPA from DHHS. NIST also will accept the submission of human subjects protocols that have been approved by IRBs possessing a current, valid FWA from DHHS. NIST will not issue a single project assurance (SPA) for any IRB reviewing any human subjects protocol proposed to NIST.

On August 9, 2001, the President announced his decision to allow Federal funds to be used for research on existing human embryonic stem cell lines as long as prior to his announcement (1) the derivation process (which commences with the removal of the inner cell mass from the blastocyst) had already been initiated and (2) the embryo from which the stem cell line was derived no longer had the possibility of development as a human being. NIST will follow guidance issued by the National Institutes of Health at http://ohrp.osophs.dhhs.gov/humansubjects/guidance/stemcell.pdf for funding such research.

j. Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanased, or used by the project participants to accomplish research goals, teaching, or testing. These regulations also do not apply to obtaining animal materials from commercial processors of animal products or to animal cell lines or tissues from tissue banks.

k. Matching Funds: Although many of the programs described in this notice do not require cost share, if it is determined that your proposal falls within the authority of 19 U.S.C. 2543-45 cost share will be required as follows:

Pursuant to 19 U.S.C. 2543-45, financial assistance shall not exceed 75 percent of such program or activity, when the primary purpose of such program or activity is—

(1) To increase the awareness of proposed and adopted standards-related activities;

(2) To facilitate international trade through the appropriate international and domestic standards-related activities;

(3) To provide adequate United States representation in international standards-related activities; and

(4) To encourage United States exports through increased awareness of foreign standards-related activities that may affect United States exports.

l. Executive Orders: This funding notice was determined to be not significant for purposes of Executive Order 12866.

It has been determined that this notice does not contain policies with federalism implications as that term is defined in Executive Order 13132.

Applications under these programs are not subject to Executive Order 12372, “Intergovernmental Review of Federal Programs.”

m. Administrative Procedure Act/Regulatory Flexibility Act: Notice and comment are not required under the Administrative Procedure Act (5 U.S.C. 553) or any other law, for notices relating to public property, loans, grants, benefits or contracts (5 U.S.C. 553(a)). Because notice and comment are not required under the Administrative Procedure Act, a Regulatory Flexibility Analysis is not required and has not been prepared for this notice, 5 U.S.C. 601 et seq.

n. Limitation of Liability: In no event will the Department of Commerce be responsible for proposal preparation costs if these programs fail to receive funding or are cancelled because of other agency priorities. Publication of this announcement does not oblige the agency to award any specific project or to obligate any available funds.

The following are examples of the Special Award Conditions that may be applied to the recipients award document:

a. Program Income: Program income, as defined at 15 CFR 14.24 (non-profits and colleges) or 15 CFR 14.24.25 (states), earned during the award period shall be retained by the recipient and shall be deducted from the total allowable costs to determine the net allowable costs. Program income shall be used for current costs unless the Grants Officer authorizes otherwise. Program income, which the Recipient did not anticipate at the time of the award, must be used to reduce the Department's contribution rather than to increase the funds committed to the project.

b. Supplemental Information to DoC, Financial Assistance Standard Term and Condition, K.02, titled “Rights to Inventions.” The Recipient shall submit to the National Institute of Standards and Technology a final patent report listing all inventions disclosed or a certification that no subject inventions were disclosed during the award period. This report is due to the Grants Officer within 90 days from the expiration date of this award.

c. General Publication Guidelines:

(a) Whenever possible, the results of the research should be published in the open scientific literature in such a way as to be generally available to American Scientific Libraries.

(b) The Federal Program Officer is responsible for insuring appropriate dissemination of information resulting from a grant/cooperative agreement.

(c) The Journal of Research of NIST may be used as a medium of publication, but the Principal Investigators are free to choose the place of publication in the best scientific interest.

(d) In such publications, acknowledgment shall be made of sponsorship by NIST. Normally this is done by a footnote reading, “This work was performed under the sponsorship of the U.S. Department of Commerce, National Institute of Standards and Technology,” or words to that effect.

(e) If the publication is copyrighted, the statement “Reproduction of this article, with the customary credit to the source, is permitted” should be added.

(f) Manuscripts intended for publication shall be forwarded to the Federal Program Officer for review prior to release.

(g) When issuing statements, press releases, requests for proposals, bid solicitations and other documents describing projects or programs funded in whole or in part with Federal money, all recipients receiving Federal funds, including States and local governments, shall clearly state the:

(1) Percentage of the total costs of the program or project which will be financed with Federal money;

(2) Dollar amount of Federal funds for the project or program; and,

(3) Percentage and dollar amount of the total costs of the project or program financed by non-Federal sources.

d. Interest: This award is subject to 15 CFR 14.22 requiring recipients of Federal financial assistance to maintain advances of Federal funds in interest bearing accounts. Interest earned on Federal advances deposited in such accounts (with the exception of $250 per year, which may be retained for administrative expenses) shall be remitted promptly, but not less frequently than quarterly to NIST at the address listed below: NIST Accounts Receivable, 100 Bureau Drive, STOP 3751, Building 101, Room A809, Gaithersburg, MD 20899-3751.

e. Supplementary Condition to DoC Standard Term and Condition D.01, titled, “Organization-wide, Program Specific, and Project Audits, paragraph b.: Since the period of this award is less than two years and the recipient is a for-profit organization, the NIST requires that the recipient provide the Grant Officer with one of the following audits:

(1) An organization-wide audit that is conducted by an independent Certified Public Accountant (CPA) in accordance with Generally Accepted Government Auditing Standards, that encompasses the period of performance of this award and provides for a review of the costs associated with this award and all other revenue and income of the recipient, and certification that the recipient has complied with all the terms and conditions related to the financial management standards found at 15 CFR 14.21; or

(2) A project audit conducted by an independent CPA in accordance with Generally Accepted Government Auditing Standards, similar to that found in OMB, Circular A-133 and that:

(i) Provides for a review and determination of the appropriateness of the costs associated with this award in accordance with the applicable cost principles as specified on the cover sheet of this award;

(ii) Provides for a new review and determination of the recipient's compliance with the terms, conditions, laws and regulations governing this award; and

(iii) Reviews the financial statements of the organization and provides an opinion.

The Recipient shall submit either (1) or (2) above to the Grants Officer within 90 days of the expiration date of this award.

f. Return Payments for Funds Withdrawn through ASAP: Funds that have been withdrawn through ASAP may be returned to ASAP via the Automated Clearing House (ACH) or via FEDWIRE. The ACH or FEDWIRE transaction can only be done by the Recipient's financial institution. Full or partial amounts of payments received by a Payment Requestor/Recipient Organization may be returned to ASAP. All funds returned to the ASAP system will be credited to the ASAP Suspense Account. The Suspense Account allows the Regional Financial Center to monitor returned items and ensure that funds are properly credited to the correct ASAP account. Returned funds that cannot be identified and classified to an ASAP account will be dishonored and returned to the originating depository financial institution (ODFI).

It is essential that the Payment Requestor/Recipient Organization provide its financial institution with ASAP account information (ALC, Recipient ID and Account ID) to which the return is to be credited. Additional detailed information can be found at http://www.fms.treas.gov/asap/pay-return2.pdf.

g. Supervision of the Recipient's Researchers on the NIST Site: The Recipient shall control the means and manner of its researcher(s)' activities, including research conducted on the NIST campus. The Recipient shall provide a salary, stipend, or other funding to the researcher(s), and shall establish the researcher(s)' work schedule and tenure. The Recipient is the supervisor of record for the researcher(s), and shall coordinate with NIST as needed to ensure that the research remains consistent with NIST program objectives. Staff and affiliates of the Recipient conducting research on a NIST site shall sign and abide by the terms of the NIST Guest Researcher Agreement.

NIST shall collaborate on the research as described in a Special Award Condition, titled NIST Participation, (that will change accordingly per award), and shall coordinate with the Recipient as needed regarding progress on the research. NIST shall have no firing or other terminating authority over the employment or affiliation status of the Recipient's researcher(s). Any issues related to performance or conduct in the laboratory involving researcher(s) shall be immediately reported to the Recipient. Any suspension or termination action on this award will comply with 15 CFR 14.60-.62 and the Department of Commerce Financial Assistance Standard Terms and Conditions, B.02 and B.05.

h. The Recipient shall comply with the requirements found in the Notice of Funding Availability published in the Federal Register and incorporated by reference into this award.

i. NIST Implementation of Department of Commerce, Financial Assistance Standard Terms and Conditions, dated October 2001, Section A.02, Award Payments

(1) The advance method of payment shall be authorized unless otherwise specified in a special award condition.

(2) Payments will be made through electronic funds transfers, using the Department of Treasury's Automated Standard Application for Payment (ASAP) system, and in accordance with the requirements of the Debt Collection Improvement Act of 1996. The following information is required when making withdrawals for this award (1) ASAP account identification (id) = award number found on the cover sheet of this award; (2) Agency Location Code (ALC) = 13060001; and (3) Region Code = 01. Recipients do not need to submit a “Request for Advance or Reimbursement” (SF-270) for payments relating to this award. If you are not enrolled as an ASAP Recipient Organization you must complete the enrollment process with your Federal Reserve Bank, Regional Finance Center. Enrollment applications and information can be found at http//www.fms.treas.gov/asap/handbook.html. If you need a paper copy of the enrollment documentation please contact the Grant Specialist responsible for this award.

(3) Advances taken through the ASAP shall be limited to the minimum amounts necessary to meet immediate disbursement needs. Advanced funds not disbursed in a timely manner must be promptly returned, via an ASAP credit, to the account from which the advanced funding was withdrawn. Advances shall be for periods not to exceed 30 days.

(4) This award has the following control or withdraw limits set in ASAP

___ None

___ Agency Review required for all withdrawals (see explanation below)

___ Agency Review required for all withdrawal requests over $____(see explanation below)

___ Maximum Draw Amount controls (see explanation below)

$____ each month

$____ each quarter

$____ each year

3. Reporting:

a. The Department of Commerce Financial Assistance Standard Terms and Conditions dated October, 2001 provides policy guidelines for recipients. Financial and Programmatic Reporting Requirements for grants and cooperative agreements are outlined below. Please see the Department of Commerce Financial Assistance Standard Terms and Conditions dated October, 2001 which can be found on the Internet at http://www.osec.doc.gov/oebam/standards.htm.

b. Financial Requirements—Financial Reports

(1) The Recipient shall submit a “Financial Status Report” (SF-269) on a semi-annual basis for the periods ending March 31 and September 30, or any portion thereof, unless otherwise specified in a special award condition. Reports are due no later than 30 days following the end of each reporting period. A final SF-269 shall be submitted within 90 days after the expiration date of the award.

(2) The Recipient shall submit a “Federal Cash Transactions Report” (SF-272) for each award where funds are advanced to Recipients. The SF-272 should be submitted on a quarterly basis for periods ending March 31, June 30, September 30, and December 31. The SF-272 is due 15 working days following the end of each reporting period unless otherwise specified in a special award condition.

(3) All financial reports shall be submitted in triplicate (one original and two copies) to the Grants Officer.

c. Programmatic Requirements—Performance (Technical) Reports

(1) The Recipient shall submit performance (technical) reports in triplicate (one original and two copies) to the Federal Program Officer in the same frequency as the Financial Status Report (SF-269).

(2) Unless otherwise specified in the award provisions, performance (technical) reports shall contain brief information as prescribed in the applicable uniform administrative requirements incorporated into the award.

Dated: March 17, 2004.
Hratch G. Semerjian,
Acting Director, NIST.

[FR Doc. 04-6789 Filed 3-25-04; 8:45 am]

BILLING CODE 3510-13-P